DEPARTMENT OF THE TREASURY

Office of Foreign Assets Control

Designation of Two Individuals Pursuant to Executive Order 13553

AGENCY: Office of Foreign Assets Control, Treasury.

ACTION: Notice.

SUMMARY: The Treasury Department's Office of Foreign Assets Control (“OFAC”) is publishing the names of two individuals newly-designated as persons whose property and interests in property are blocked pursuant to Executive Order 13553 of September 28, 2010, “Blocking Property of Certain Persons With Respect to Serious Human Rights Abuses by the Government of Iran and Taking Certain Other Actions.” The property and interests in property of one of the individuals are already blocked pursuant to another OFAC sanctions program.

DATES: The designation by the Director of OFAC of the two individuals identified in this notice, pursuant to Executive Order 13553 of September 28, 2010, is effective February 23, 2011.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On September 28, 2010, the President issued Executive Order 13553, “Blocking Property of Certain Persons With Respect to Serious Human Rights Abuses by the Government of Iran and Taking Certain Other Actions” (the “Order”) pursuant to, inter alia, the International Emergency Economic Powers Act (50 U.S.C. 1701-06) and the Comprehensive Iran Sanctions, Accountability, and Divestment Act of 2010 (Pub. L. 111-195). In the Order, the President took additional steps with respect to the national emergency declared in Executive Order 12957 of March 15, 1995.

Section 1 of the Order blocks, with certain exceptions, all property and interests in property that are in the United States, that come within the United States, or that are or come within the possession or control of any United States person, of persons listed in the Annex to the Order and of persons determined by the Secretary of the Treasury, in consultation with or at the recommendation of the Secretary of State, to meet any of the criteria set forth in the Order.

The Annex to the Order listed eight individuals whose property and interests in property are blocked pursuant to the Order.

On February 23, 2011, the Director of OFAC, in consultation with or at the recommendation of the Secretary of State, designated, pursuant to one or more of the criteria set forth in subparagraphs (a)(ii)(A) through (a)(ii)(C) of Section 1 of the Order, two individuals whose property and interests in property are blocked, pursuant to the Order. As noted above and in the listing below, the property and interests in property of one these individuals are already blocked pursuant to another OFAC sanctions program. The listing for these individuals is as follows:

• JAFARI DOLATABADI, Abbas (a.k.a. JA'AFARI DOLATABADI, Abbas; a.k.a. JAFARI DOLAT-ABADI, Abbas; a.k.a. JAFARI DOVLATABADI, Abbas; a.k.a. JAFARI DOWLATABADI, Abbas; a.k.a. JA'FARI-DOLATABADI, Abbas; a.k.a. JAFARI-DOLATABADI, Abbas; a.k.a. JA'FARI-DOWLATABADI, Abbas), Tehran Revolutionary and Public Court, Office of Tehran Prosecutor, Arag Circle, Tehran, Iran; DOB 1953; Prosecutor-General of Tehran; General and Revolutionary Prosecutor of Tehran; Tehran Public and Revolution Prosecutor; Tehran Public Prosecutor (individual) [IRAN-HR]

• NAQDI, Mohammad Reza (a.k.a. NAGHDI, Mohammad Reza; a.k.a. NAQDI, Muhammad; a.k.a. SHAMS, Mohammad Reza); DOB circa 1952; alt. DOB circa Mar 1961; alt. DOB circa Apr 1961; alt. DOB 1953; POB Najaf, Iraq; alt. POB Tehran, Iran; Brigadier General and Commander of the IRGC Basij Resistance Force; President of the Organization of the Basij of the Oppressed; Chief of the Mobilization of the Oppressed Organization; Head of the Basij (individual) [NPWMD] [IRGC] [IRAN-HR]

Dated: February 23, 2011.
Adam J. Szubin,
Director, Office of Foreign Assets Control.

[FR Doc. 2011-4424 Filed 2-28-11; 8:45 am]

BILLING CODE 4811-45-P